DEPARTMENT OF DEFENSE

Department of the Army; Corps of Engineers

Intent To Prepare a Draft Environmental Impact Statement/Environmental Impact Report (EIR) for a Permit Application for the Carryover Storage and San Vicente Dam Raise Project, San Diego County, CA

AGENCY: Department of the Army, U.S. Army Corps of Engineers, DoD.

ACTION: Notice of intent (NOI).

SUMMARY: The U.S. Army Corps of Engineers (Corps), Los Angeles District, has received an application for a Department of the Army permit under Section 404 of the Clean Water Act from the San Diego County Water Authority (Water Authority) to construct the San Vicente Carryover Storage Project (Proposed Action). As part of the permit process, and in conjunction with the Water Authority, the Corps is evaluating the environmental effects associated with raising San Vicente Dam beyond the permitted height of the Emergency Storage Project (ESP), to provide additional reservoir capacity for carryover storage.

The primary Federal involvement associated with the Proposed Action is the discharge of fill materials (including permanent inundation) within Federal jurisdictional areas and waters of the United States. In addition, the Proposed Action could have potential significant effects on the human environment. Therefore, the Corps will prepare an Environmental Impact Statement (EIS) in compliance with the National Environmental Policy Act (NEPA) to render a final decision on the Water Authority's permit application. The Corps decision will be to either issue or deny a Department of the Army permit for the Proposed Action. The EIS will be prepared as a joint document. Pursuant to the California Environmental Quality Act (CEQA), the Water Authority will serve as Lead Agency for the preparation of an Environmental Impact Report (EIR). The Corps and Water Authority have agreed to jointly prepare a Draft EIS/EIR for the Proposed Action to optimize efficiency and avoid duplication. The Draft EIS/EIR is intended to be sufficient in scope to address Federal, state, and local requirements and environmental issues concerning the Proposed Action and permit approvals.

FOR FURTHER INFORMATION CONTACT: Questions about the Proposed Action and Draft EIS/EIR can be answered by Mr. Robert R. Smith, Corps Regulatory Project Manager, by telephone at (858) 674-6784 or by e-mail at robert.r.smith@usace.army.mil. Written comments should be addressed to both the U.S. Army Corps of Engineers, Rancho Bernardo Branch Office, Attn: File Number 200601015-RRS, 16885 West Bernardo Drive, Suite 300A, San Diego, CA 92127, and to Ms. Kelley Gage, Senior Water Resources Specialist, San Diego County Water Authority, 4677 Overland Avenue, San Diego, CA 92123. Information about the Proposed Action and Draft EIS/EIR can also be obtained from the Water Authority's Web site at http://www.sdcwa.org.

SUPPLEMENTARY INFORMATION:

1. Project Site and Background Information. The Proposed Action is located at the existing San Vicente Reservoir in the unincorporated area of San Diego County, north of Lakeside. The site is within the USGS 7.5' San Vicente Reservoir Quadrangle, Sections 13, 14, 25, and 36, Township 14 South, Range 1 West; and Sections 16-20, 23, 24, and 29-31, Township 14 South, Range 1 East.

(a) Background. In August 1996, the Water Authority approved the Emergency Storage Project (ESP) to provide local water storage to meet emergency needs within the Water Authority's service area. The ESP includes expansion of the existing San Vicente Reservoir by raising the existing San Vicente Dam by 54 feet, providing approximately 52,100 acre-feet of emergency storage capacity, and construction of associated pipelines, pump stations, and ancillary structures. The Corps issued the Record of Decision for the Final EIS for the ESP on August 4, 1997. The ESP was permitted by the Corps on August 18, 1997 (No. 95-2009200-DZ).

As part of its water planning efforts, the Water Authority completed a Regional Water Facilities Master Plan (Master Plan) in December 2002. The Master Plan contains an evaluation of the facilities and resources the Water Authority will need to fulfill its mission of providing a safe and reliable supply of water to its member agencies through the year 2030. The Master Plan identified an immediate need for additional carryover storage for the region, and identified an additional expansion of San Vicente Reservoir to include 100,000 acre-feet of carryover storage as a component of each alternative. The Water Authority further refined its water supply and demand mix in its 2005 Urban Water Management Plan (UWMP) update. The UWMP confirmed the need for 100,000 acre-feet of carryover storage and identified the need for additional carryover storage above and beyond the 100,000 acre-feet addressed in the Master Plan.

(b) Purpose and Need. The overall project purpose is to substantially increase the reliability and flexibility of the regional water supply by providing the Water Authority with facilities to accumulate and store approximately 100,000 acre-feet of water. During dry weather periods, increased regional demand for water may exceed local supplies resulting in potential water shortages. Through the use of carryover storage, water can be accumulated during wetter years/seasons, when supplies are greater, and used in drier years/seasons or during droughts, when supplies are in higher demand. In order to accomplish this purpose, the following objectives must be met:

• Provide approximately 100,000 acre-feet of readily available, locally stored water for distribution to the Water Authority's member agencies during supply shortages by the year 2011;

• Increase system reliability and operation flexibility;

• Locate new facilities in a manner that reduces the need for additional improvements to the Water Authority's infrastructure network;

• Minimize environmental and social impacts, and;

• Minimize costs.

(c) Dam Raise Construction. The existing San Vicente Dam is 220 feet high and the capacity of the reservoir is approximately 90,000 acre-feet. The Proposed Action would raise the dam an additional 63 feet beyond the approved ESP dam raise, increasing the overall dam height by up to 117 feet (or a total dam height of up to 337 feet). This would increase the total usable capacity of the reservoir by approximately 152,100 acre-feet. The elevation of the spillway crest would be raised from 650 to 766 feet above mean sea level (AMSL). Total storage capacity and surface area at Maximum Normal Pool (MNP) of the expanded reservoir would be 247,100 acre-feet and 1,700 acres, respectively.

Two options are being evaluated for the provision of aggregate to produce the concrete material for dam construction: (1) Extraction and processing of aggregate at an on-site quarry within City of San Diego property south of San Vicente Dam; and (2) hauling of aggregate to the site from an offsite location.

Concurrent with the dam raise, construction of a new inlet/outlet facility would require a cofferdam to create a dry working area on the upstream (water) side of the dam. The proposed increase in reservoir capacity and elevation would also require the construction of two saddle dams to the west of the main dam, relocation of the San Vicente Marina, and relocation of the marina access road. New marina facilities, to replace the existing marina that would be inundated by the ESP dam raise, were included as part of the ESP. The marina facilities would be shifted west of the ESP planned location as part of the Proposed Action. The Proposed Action also includes installation of a bypass pipeline extending from the easterly saddle dam to the First Aqueduct Diversion Structure north of the proposed marina.

(d) Reservoir Lowering/Raising. As addressed in the Corps permit for the ESP, the water in the San Vicente Reservoir would be lowered prior to construction of the cofferdam. The total time required to lower the reservoir, maintain the reservoir at the lowered water level during construction of the dam raise, and refill the reservoir to the new water level would be approximately eight years, depending on the rate of imported water and local watershed inflows. Of these eight years, approximately 18 to 24 months would be attributed to the construction and filling activities for the Proposed Action.

(e) Determination of Ordinary High Water Mark (OHWM). For the Proposed Action, the Corps has determined that the jurisdictional OHWM for the reservoir is the existing San Vicente Dam spillway at 650 feet AMSL.

2. Alternatives. Alternatives to the Proposed Action initially being considered include:

(a) Construction of a new dam and reservoir at Moosa Valley in the Valley Center area, to provide 100,000 acre-feet of carryover storage capacity.

(b) A reduced dam raise at San Vicente Reservoir to provide 50,000 acre-feet of carryover storage capacity, combined with the construction of a new dam and reservoir at Moosa Valley in the Valley Center area, to provide an additional 50,000 acre-feet of carryover storage capacity.

(c) No Project.

(d) No Permit Issued.

(e) Other new or expanded surface reservoirs, reoperation of existing local reservoir storage, local or out-of-region groundwater basin storage, and other alternatives that have been considered but rejected.

3. Draft EIS/EIR Scoping Process.

(a) The Corps is furnishing this notice to: (1) Advise other Federal and state agencies, affected Tribes, and the public of our intentions; (2) announce the initiation of a 30-day scoping period; and (3) obtain suggestions and information on the scope of issues and alternatives to be included in the Draft EIS/EIR. The Corps and the Water Authority invite comments from all interested parties to ensure that the full range of issues related to the permit request is addressed and that all significant issues are identified. We will accept written comments until 30 days after the date of publication of this notice.

(b) Significant issues to be analyzed in the Draft EIS/ EIR include:

(1) Aesthetics/visual quality;

(2) Agricultural resources;

(3) Air quality;

(4) Biological resources;

(5) Cultural resources;

(6) Cumulative impacts;

(7) Energy;

(8) Environmental justice;

(9) Geology/soils;

(10) Growth inducement;

(11) Land use/planning;

(12) Mineral resources;

(13) Noise/vibration;

(14) Paleontological resources;

(15) Population/housing;

(16) Public safety/hazardous materials;

(17) Public services/utilities;

(18) Recreation;

(19) Socioeconomics;

(20) Traffic/circulation; and

(21) Water resources.

(c) The Corps and the Water Authority will conduct an environmental review of the Proposed Action in accordance with the requirements of NEPA, 1969 as amended, (42 U.S.C. 4321 et seq.) and its implementing regulations (40 Code of Federal Regulations, Section 1500 et seq.), Corps Procedures for Implementing NEPA (33 Code of Federal Regulations, Section 230 et seq.), and with other appropriate Federal laws and regulations, policies, and procedures of the Corps for compliance with those regulations; and with CEQA (Public Resources Section 21000, et seq.), State of California CEQA Guidelines (California Code of Regulations, Section 15000 et seq). The Proposed Action, through the Corps permit process, will require consultation under the federal Endangered Species Act and Section 106 of the National Historic Preservation Act.

(d) Written comments should be addressed to both the U.S. Army Corps of Engineers, Rancho Bernardo Branch Office, Attn: File Number 200601015-RRS, 16885 West Bernardo Drive, Suite 300A, San Diego, CA 92127, and to Ms. Kelley Gage, Senior Water Resources Specialist, San Diego County Water Authority, 4677 Overland Avenue, San Diego, CA 92123. Information about the Proposed Action and Draft EIS/EIR can also be obtained from the Water Authority's Web site at http://www.sdcwa.org.

4. Scoping Meeting. A public scoping meeting will be held on the Proposed Action on November 1, 2006, 6:30 p.m., at the San Diego County Water Authority, 4677 Overland Avenue, San Diego, CA 92123. This meeting will give agencies and the public an opportunity to receive more information on the Proposed Action and to provide comments and suggestions on the scope of the EIS/EIR.

5. Availability of the Draft EIS/EIR. The Corps and Water Authority expect the Draft EIS/EIR to be made available to the public in the Spring 2007. A joint public hearing will be held during the public comment period for the Draft EIS/EIR. Written comments will be accepted at the meeting.

Mark Durham,
Chief, South Coast Section, Regulatory Branch.

[FR Doc. E6-16590 Filed 10-6-06; 8:45 am]

BILLING CODE 3710-KF-P